OFFICE OF NATIONAL DRUG CONTROL POLICY

Meeting of White House Task Force on Drug Use in Sport

AGENCY: Office of National Drug Control Policy.

ACTION: Notice of Meeting of White House Task Force on Drug Use in Sport on December 7, 2000 in Salt Lake City, Utah.

SUMMARY: A meeting of the White House Task Force on Drug Use in Sport will be held on Thursday, December 7, 2000 in Salt Lake City, Utah in the Wasatch Ballroom of the Wyndham Hotel, 215 W. South Temple, 2nd Floor, Salt Lake City, Utah 84101. The meeting will commence at 8:00 a.m. on December 7th and will conclude at 12:30 p.m. The agenda will focus on two key issues: (1) How can the United States help ensure a drug free 2002 Winter Olympic Games; and (2) How can the United States most effectively reach out to young people to prevent the use of drugs in sport. There will be an opportunity for public comment from 11:10 a.m. until 11:40 on Thursday December 7, 2000.

FOR FURTHER INFORMATION CONTACT: Please direct any questions to Linda V. Priebe, Assistant General Counsel (202) 395-6622, Office of National Drug Control Policy, Executive Office of the President, Washington, D.C. 20503.

Linda V. Priebe,
Assistant General Counsel.

[FR Doc. 00-30540 Filed 11-27-00; 2:46 pm]

BILLING CODE 3180-02-P